DEPARTMENT OF TRANSPORTATION

Federal Aviation Administration

14 CFR Part 71

[Docket No. FAA-2024-0696; Airspace Docket No. 23-ASO-54]

RIN 2120-AA66

Amendment of United States Area Navigation (RNAV) Routes Q-30 and T-370; Eastern United States

AGENCY: Federal Aviation Administration (FAA), DOT.

ACTION: Final rule.

SUMMARY: This action amends United States Area Navigation (RNAV) Routes Q-30 and T-370 by changing the name of the “SKNRR”, MS, waypoint (WP) to “HRISN”. The FAA is taking this action due to a similarly pronounced and sounding WP (SKNNR, GA) located 209 nautical miles (NM) east of the SKNRR WP. Additionally, T-370 will be renumbered to T-486 to correct a duplicative use of RNAV Route number T-370 in Alaska. This action is an administrative change and does not affect the airspace boundaries or operating requirements.

DATES: Effective date 0901 UTC, July 11, 2024. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System (NAS).

Background

The FAA identified a safety issue with similar sounding WP names, the SKNRR, MS, WP and the SKNNR, GA, WP located 209 NM to the east of SKNRR WP which contributes to communications errors resulting from the similar-sounding WP names in radio communications. To remedy this, the FAA is changing the name from the SKNRR, MS, WP to the HRISN, MS, WP in both RNAV Routes Q-30 and T-370. Additionally, the FAA identified that it had inadvertently assigned the RNAV Route number T-370 to multiple route entries in FAA Order JO 7400.11H, one in Alaska and one in the southeastern United States. The FAA corrects this error by renumbering RNAV Route number T-370 in the southeastern United States to T-486.

Incorporation by Reference

United States Area Navigation routes (Q-routes) are published in paragraph 2006 and United States Area Navigation (T-routes) are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by changing the name of the “SKNRR”, MS, WP to “HRISN” in RNAV Routes Q-30 and T-370 to overcome the similar-sounding pronunciation of the SKNRR, MS, WP and the SKNNR, GA, WP which contributes to communications errors resulting from the similar-sounding WP names in radio communications. Additionally, T-370 will be renumbered to T-486 to correct a duplicative use of RNAV Route number T-370 in Alaska. The amendments are described below.

Q-30: Q-30 is an amended route that extends between the IZAAC, MS, WP and the VLKNN, AL, WP. This amended route replaces the SKNRR, MS, WP with the HRISN, MS, WP at the same location. As amended, the route continues to extend between the IZAAC WP and the VLKNN WP.

T-486: T-486 is an amended route that extends between the BURBN, TX, WP and the VLKNN, AL, WP. This amended route replaces the SKNRR, MS, WP with the HRISN, MS, WP at the same location. Additionally, T-370 is renumbered to T-486 to correct a duplicative use of RNAV Route number T-370 in Alaska. As amended, the route continues to extend between the BURBN WP and the VLKNN WP.

This action is an administrative change and does not affect the airspace boundaries or operating requirements; therefore, notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of amending RNAV Routes Q-30 and T-370 by changing the name of the “SKNRR”, MS, waypoint (WP) to “HRISN” and renumbering T-370 to T-486 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2006 United States Area Navigation Routes.

* * * * *

Q-30 IZAAC, MS to VLKNN, AL [Amended]
IZAAC, MS | WP | (Lat. 33°27′49.87″ N, long. 090°16′37.75″ W)
HRISN, MS | WP | (Lat. 33°29′07.75″ N, long. 088°30′49.63″ W)
VLKNN, AL | WP | (Lat. 33°40′12.47″ N, long. 086°53′58.83″ W)

* * * * *

Paragraph 6011 United States Area Navigation Routes.

* * * * *

T-486 BURBN, TX to VLKNN, AL [Amended]
BURBN, TX | WP | (Lat. 33°32′09.20″ N, long. 097°49′15.83″ W)
RRORY, TX | WP | (Lat. 33°32′14.95″ N, long. 096°14′03.45″ W)
TASEY, TX | WP | (Lat. 33°32′32.56″ N, long. 095°26′54.55″ W)
SLOTH, TX | WP | (Lat. 33°30′49.99″ N, long. 094°04′24.38″ W)
RICKG, AR | WP | (Lat. 33°33′43.12″ N, long. 091°42′56.29″ W)
EJKSN, MS | WP | (Lat. 33°31′24.65″ N, long. 090°58′57.87″ W)
IZAAC, MS | WP | (Lat. 33°27′49.87″ N, long. 090°16′37.75″ W)
HRISN, MS | WP | (Lat. 33°29′07.75″ N, long. 088°30′49.63″ W)
BESOM, AL | FIX | (Lat. 33°35′10.73″ N, long. 087°39′23.49″ W)
NESTS, AL | WP | (Lat. 33°36′53.34″ N, long. 087°20′51.86″ W)
VLKNN, AL | WP | (Lat. 33°40′12.47″ N, long. 086°53′58.83″ W)

* * * * *

Issued in Washington, DC, on May 1, 2024.
Frank Lias,
Manager, Rules and Regulations Group.

[FR Doc. 2024-09869 Filed 5-14-24; 8:45 am]

BILLING CODE 4910-13-P